DEPARTMENT OF TRANSPORTATION

Federal Aviation Administration

Notice of Intent To Rule on Application To Impose and Use the Revenue From a Passenger Facility Charge (PFC) at Key Field Airport, Meridian, MS

AGENCY: Federal Aviation Administration (FAA), DOT.

ACTION: Notice of intent to rule on application.

SUMMARY: The FAA proposes to rule and invites public comment on the application to impose and use the revenue from a PFC at Key Field Airport under the provisions of the Aviation Safety and Capacity Expansion Act of 1990 (Title IX of the Omnibus Budget Reconciliation Act of 1990) (Pub. L. 101-508) and Part 158 of the Federal Aviation Regulations (14 CFR Part 158).

DATES: Comments must be received on or before May 13, 2005.

ADDRESSES: Comments on this application may be mailed or delivered in triplicate to the FAA at the following address:

Jackson Airports District Office, 100 West Cross Street, Jackson, MS 39208.

In addition, one copy of any comments submitted to the FAA must be mailed or delivered to Mr. Tom Williams, Executive Director of the Meridian Airport Authority at the following address: Post Office Box 4351, Meridian, MS 39304-4351.

Air carriers and foreign air carriers may submit copies of written comments previously provided to the Meridian Airport Authority under § 158.23 of Part 158.

FOR FURTHER INFORMATION CONTACT: David Shumate, Program Manager, Jackson Airports District Office, 100 West Cross Street, (601) 664-9882. The application may be reviewed in person at this same location.

SUPPLEMENTARY INFORMATION: The FAA proposes to rule and invites public comment on the application to impose and use the revenue from a PFC at Key Field Airport under the provisions of the Aviation Safety and Capacity Expansion Act of 1990 (Title IX of the Omnibus Budget Reconciliation Act of 1990) (Pub. L. 101-508) and Part 158 of the Federal Aviation Regulations (14 CFR Part 158).

On April 7, 2005, the FAA determined that the application to impose and use the revenue from a PFC submitted by Meridian Airport Authority was substantially complete within the requirements of section 158.25 of Part 158. The FAA will approve or disapprove the application, in whole or in part, no later than July 21, 2005.

The following is a brief overview of the application.

PFC Application No.: 05-07-C-00-MEI.

Level of the proposed PFC: $4.50.

Proposed charge effective date: June 1, 2005.

Proposed charge expiration date: March 31, 2008.

Total estimated net PFC revenue: $489,473.

Brief description of proposed project(s): Build Terminal Building; Survey and Clear runway approaches; Rehabilitate and improve drainage.

Class or classes of air carriers which the public agency has requested not be required to collect PFCs: None.

Any person may inspect the application in person at the FAA office listed above under FOR FURTHER INFORMATION CONTACT.

In addition, any person may, upon request, inspect the application, notice and other documents germane to the application in person at the Meridian Airport Authority.

Dated: Issued in Jackson, MS on April 7, 2005.
Rans Black,
Manager, Jackson Airports District Office, Southern Region.

[FR Doc. 05-7426 Filed 4-12-05; 8:45 am]

BILLING CODE 4910-13-M